DEPARTMENT OF HOUSING AND URBAN DEVELOPMENT

[Docket No. FR-4560-N-02]

Super Notice of Funding Availability (SuperNOFA) for HUD's Housing, Community Development and Empowerment Programs and Section 8 Housing Voucher Assistance for Fiscal Year 2000; Table of Contents

AGENCY: Office of the General Counsel, HUD.

ACTION: Notice of Table of Contents to SuperNOFA for HUD Grant Programs.

SUMMARY: This notice provides a Table of Contents for HUD's SuperNOFA for HUD Grant Programs published on February 24, 2000.

FOR FURTHER INFORMATION CONTACT: For further information about the SuperNOFA, please see HUD's publication of the SuperNOFA in the Federal Register on February 24, 2000, at 65 FR 9321, or at HUD's website at http://www.hud.gov. You also may call, during business hours, the SuperNOFA Information Center at 1-800-HUD-8929. If you are a person with a hearing or speech impairment you may call the Center's TTY number at 1-800-HUD-2209.

SUPPLEMENTARY INFORMATION: On February 24, 2000 (65 FR 9321), HUD published its Super Notice of Funding Availability (SuperNOFA) for Housing, Community Development and Empowerment Programs and Section 8 Housing Voucher Assistance. HUD's SuperNOFA announced the availability of approximately $2.424 billion in HUD program funds covering 39 grant categories within programs operated and administered by HUD offices and Section 8 housing voucher assistance.

To assist the public in finding more easily the individual funding availability announcements within the SuperNOFA in which they may be interested, HUD is publishing a Table of Contents to the Federal Register publication of the SuperNOFA.

The Table of Contents follows.

Dated: March 13, 2000.
Camille E. Acevedo,
Assistant General Counsel for Regulations.

Table of Contents of FY 2000 SuperNOFA

(Published February 24, 2000, 65 FR 9320-9993)

• Application Due Dates and Address for Submitting Applications—65 FR 9322

• Introduction to the FY 2000 SuperNOFA—65 FR 9323

• Charts Providing Overview of FY 2000 SuperNOFA Programs—65 FR 9326-9334

• General Section of the FY 2000 SuperNOFA—65 FR 9335

• List of HUD Field Offices—65 FR 9341

• List of EZs, ECs, Urban Enhanced & Strategic Planning Communities—65 FR 9354-9356

• Standard Forms and Certifications—65 FR 9357-9386

• Community Development Technical Assistance—65 FR 9387

• Community Outreach Partnership Centers (COPC)—65 FR 9405

• Historically Black Colleges and Universities (HBCUs) Program—65 FR 9429

• Hispanic-Serving Institutions Assisting Communities (HSIAC)—65 FR 9455

• Alaska Native/Native Hawaiian Institutions Assisting Communities (AN/NHIAC)—65 FR 9469

• Fair Housing Initiatives Program (FHIP)—65 FR 9485

• Housing Counseling—65 FR 6519

• Lead-Based Paint Hazard Control Program—65 FR 9537

• Research to Improve the Evaluation and Control of Residential Lead-Based Paint Hazards—65 FR 9557

• Healthy Homes Initiative—65 FR 9577

• HOPE VI Revitalization and Demolition—65 FR 9597

• Public & Indian Housing Drug Elimination Technical Assistance Program (DETAP)—65 FR 9641

• Public Housing Drug Elimination: Technical Assistance for Safety and Security (DETASS)—65 FR 9653

• New Approach Anti-Drug Program—65 FR 9663

• Multifamily Housing Drug Elimination—65 FR 9681

• Resident Opportunity and Self-Sufficiency (ROSS) Program—65 FR 9695

• Outreach and Assistance Training Grants (OTAG)—65 FR 9777

• Economic Development Initiative (EDI)—65 FR 9787

• Brownfields Economic Development Initiative (BEDI)—65 FR 9813

• Self-Help Homeownership Program (SHOP)—65 FR 9823

• Youthbuild—65 FR 9829

• Continuum of Care Homeless Assistance Programs—65 FR 9849

• Housing Opportunities for Persons with AIDS (HOPWA) Program—65 FR 9865

• Section 202 Supportive Housing for the Elderly Program—65 FR 9899

• Section 811 Supportive Housing for Persons with Disabilities Program—65 FR 9927

• Mainstream Housing Opportunities for Persons with Disabilities—65 FR 9963

• Rental Assistance for Non-Elderly Persons with Disabilities Related to Certain Developments—65 FR 9975

• Rental Assistance for Non-Elderly Persons with Disabilities in Support of Designated Housing Plans—65 FR 9985

[FR Doc. 00-6639 Filed 3-16-00; 8:45 am]

BILLING CODE 4210-01-P